CONSUMER PRODUCT SAFETY COMMISSION

Sunshine Act Meeting

Federal Register Citation of Previous Announcement: Vol. 74, No. 199/Friday, October 16, 2009, page 53219.

Previously Announced Time and Date of Meeting: 9 a.m.-11 a.m., Wednesday, October 21, 2009.

Changes in Meeting: Agenda Items on Electronic Devices and Brass Lead Exclusions Petition were cancelled; Brass Lead Exclusions Petition is postponed to November 4, 2009.

The Commission voted unanimously (5-0) to changes of meeting.

For a recorded message containing the latest agenda information, call (301) 504-7948.

Contact Person for Additional Information: Todd A. Stevenson, Office of the Secretary, 4330 East West Highway, Bethesda, MD 20814 (301) 504-7923.

Dated: October 27, 2009.
Todd A. Stevenson,
Secretary.

[FR Doc. E9-26735 Filed 11-6-09; 8:45 am]

BILLING CODE 6355-01-M